DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than September 4, 2018.

Interested persons are invited to submit written comments regarding the subject matter of the investigations to the Director, Office of Trade Adjustment Assistance, at the address shown below, not later than September 4, 2018.

The petitions filed in this case are available for inspection at the Office of the Director, Office of Trade Adjustment Assistance, Employment and Training Administration, U.S. Department of Labor, Room N-5428, 200 Constitution Avenue NW, Washington, DC 20210.

Signed at Washington, DC, this 19th day of July 2018.
Hope D. Kinglock,
Certifying Officer, Office of Trade Adjustment Assistance.

168 TAA Petitions Instituted Between 5/16/18 and 7/13/18
TA-W | Subject firm (petitioners) | Location | Date of institution | Date of petition
93817 | Jorgensen Forge (Union) | Seattle, WA | 05/16/18 | 05/10/18
93818 | Toys R Us (State/One-Stop) | Rapid City, SD | 05/16/18 | 05/15/18
93819 | Avid Technology Inc. (State/One-Stop) | Burlington, MA | 05/17/18 | 05/16/18
93820 | DiCentral Corporation (State/One-Stop) | Houston, TX | 05/17/18 | 05/16/18
93821 | Columbia River Logistics (State/One-Stop) | Vancouver, WA | 05/18/18 | 05/17/18
93822 | Infinite Electronics International, Inc. (Company) | Hayden, ID | 05/18/18 | 05/17/18
93822A | Provisional Recruiting & Staffing (Company) | Hayden, ID | 05/18/18 | 05/17/18
93823 | SSAB (State/One-Stop) | Roseville, MN | 05/18/18 | 05/17/18
93824 | A&W Screen Printing, Inc. (Company) | Ephrata, PA | 05/21/18 | 05/18/18
93825 | Alorica (Workers) | Omaha, NE | 05/21/18 | 05/18/18
93826 | HarbisonWalker International, Inc. (Union) | Claysburg, PA | 05/21/18 | 05/18/18
93827 | Toys R US (Workers) | Lafayette, IN | 05/21/18 | 05/18/18
93828 | SimplexGrinnell (State/One-Stop) | Westminster, MA | 05/21/18 | 05/17/18
93829 | WIE-AGRON Bioenergy, LLC (State/One-Stop) | Watsonville, CA | 05/22/18 | 05/21/18
93830 | American Biodiesel, Inc., doing business as Community Fuels (State/One-Stop) | Stockton, CA | 05/22/18 | 05/21/18
93831 | Crimson Renewable Energy, L.P. (State/One-Stop) | Bakersfield, CA | 05/22/18 | 05/21/18
93832 | Dematic Corporation (State/One-Stop) | Grand Rapids, MI | 05/22/18 | 05/21/18
93833 | Lord & Taylor LLC (Workers) | Wilkes Barre, PA | 05/22/18 | 05/21/18
93834 | Imperial Western Products, Inc. (State/One-Stop) | Coachella, CA | 05/22/18 | 05/21/18
93835 | New Leaf Biofuel, LLC (State/One-Stop) | San Diego, CA | 05/22/18 | 05/21/18
93836 | Pacific Coast Title (State/One-Stop) | Orange, CA | 05/22/18 | 05/21/18
93837 | Astec America LLC (State/One-Stop) | Eden Prairie, MN | 05/24/18 | 05/23/18
93838 | U.S. Security Associates (State/One-Stop) | Calvert City, KY | 05/24/18 | 05/23/18
93839 | Arjo, Inc. (State/One-Stop) | San Antonio, TX | 05/25/18 | 05/24/18
93840 | Ericsson Inc. (Company) | Santa Clara, CA | 05/25/18 | 05/24/18
93841 | Farm Fresh (Workers) | Poquoson, VA | 05/25/18 | 05/22/18
93842 | FutureFuel Chemical Company & Legacy Regional Transport, L.L.C. (State/One-Stop) | Batesville, AR | 05/25/18 | 05/24/18
93843 | Jacobs Engineering Group, Inc. (State/One-Stop) | Long Beach, CA | 05/25/18 | 05/24/18
93844 | Kantar Media (State/One-Stop) | Princeton, NJ | 05/25/18 | 05/24/18
93845 | Boise Cascade (Union) | Elgin, OR | 05/29/18 | 05/25/18
93846 | Dresser Rand (Company) | Burlington, IA | 05/29/18 | 05/22/18
93847 | Incobrasa Industries, LTD (State/One-Stop) | Gilman, IL | 05/29/18 | 05/25/18
93848 | Mylan Pharmaceuticals, Inc. (Union) | Morgantown, WV | 05/29/18 | 05/24/18
93849 | Sonus Networks, Inc. (Workers) | Morrisville, NC | 05/29/18 | 05/25/18
93850 | Swanson Manufacturing Services Inc. (Union) | Morgantown, WV | 05/29/18 | 05/24/18
93851 | Hillphoenix (Subsidiary of Dover Corporation) (State/One-Stop) | Colonial Heights, VA | 05/30/18 | 05/29/18
93852 | REG Danville, LLC (State/One-Stop) | Danville, IL | 05/30/18 | 05/29/18
93853 | Hitachi Consulting (State/One-Stop) | Denver, CO | 05/31/18 | 05/30/18
93854 | Kiko USA, Inc. (State/One-Stop) | Los Angeles, CA | 05/31/18 | 05/30/18
93855 | Nucor Steel Auburn, Inc. (State/One-Stop) | Auburn, NY | 05/31/18 | 05/30/18
93856 | Ricoh USA, Inc. (State/One-Stop) | Scottsbluff, NE | 05/31/18 | 05/30/18
93857 | Toys R Us (State/One-Stop) | Tennessee, TN | 05/31/18 | 05/30/18
93858 | Grass Valley, a Belden Brand (Company) | Grass Valley, CA | 06/01/18 | 05/31/18
93859 | Intertek USA, Inc. dba Intertek Pilot Plant Services (Company) | Pittsburgh, PA | 06/01/18 | 05/31/18
93860 | Toys “R” Us (State/One-Stop) | South Carolina, SC | 06/01/18 | 05/31/18
93861 | Toys “R” Us (Company) | NC Locations, NC | 06/01/18 | 05/31/18
93862 | Vitec Production Solutions (formally Vitec Videocom) (State/One-Stop) | Shelton, CT | 06/01/18 | 05/31/18
93863 | Chemtrade Solutions LLC (Company) | Augusta, GA | 06/04/18 | 05/21/18
93864 | Deluxe 3D (State/One-Stop) | Los Angeles, CA | 06/04/18 | 06/01/18
93865 | Dun & Bradstreet (State/One-Stop) | Austin, TX | 06/04/18 | 06/01/18
93866 | LogMeIn USA, Inc. (State/One-Stop) | Goleta, CA | 06/04/18 | 06/01/18
93867 | University of Kansas Health System St. Francis Campus (State/One-Stop) | Topeka, KS | 06/04/18 | 06/01/18
93868 | Smith & Nephew (Company) | Austin, TX | 06/05/18 | 06/05/18
93869 | Benteler Automotive Corporation (Workers) | Auburn Hills, MI | 06/06/18 | 06/05/18
93870 | BIC Corporation (State/One-Stop) | Shelton, CT | 06/06/18 | 06/05/18
93871 | Thermo Fisher Scientific (Workers) | Austin, TX | 06/06/18 | 05/31/18
93872 | GE (General Electric) Power (State/One-Stop) | Salem, VA | 06/07/18 | 06/06/18
93873 | Infor (US), Inc. (State/One-Stop) | Grand Rapids, MI | 06/07/18 | 06/06/18
93874 | Zodiac Electrical Inserts USA (Company) | Huntington Beach, CA | 06/07/18 | 05/31/18
93875 | Benteler Automotive (State/One-Stop) | Galesburg, MI | 06/08/18 | 06/07/18
93876 | Frank and Adam Apparel LLC (Workers) | City of Industry, CA | 06/08/18 | 06/07/18
93877 | Pavilion Data Systems (State/One-Stop) | San Jose, CA | 06/08/18 | 06/06/18
93878 | Toys R Us (State/One-Stop) | Frederick, MD | 06/08/18 | 06/07/18
93879 | Eagle Family Foods Group LLC (State/One-Stop) | Seneca, MO | 06/08/18 | 06/07/18
93880 | Savage Services, CraftForce, MPW Services, and Anderson Security (State/One-Stop) | Aberdeen, OH | 06/11/18 | 06/08/18
93881 | Cenveo—Altoona (Workers) | Altoona, PA | 06/11/18 | 06/06/18
93882 | Harley-Davidson, Inc. (State/One-Stop) | Kansas City, MO | 06/12/18 | 06/05/18
93883 | Viavi Solutions Inc. (Workers) | Indianapolis, IN | 06/12/18 | 06/11/18
93884 | Conduent Business Service—Health Care Service (State/One-Stop) | Florham Park, NJ | 06/13/18 | 06/12/18
93885 | Sonus Networks, Inc. d/b/a Ribbon Communications Operating Company (State/One-Stop) | Freehold, NJ | 06/13/18 | 05/30/18
93886 | SECO/WARWICK Corporation (Company) | Meadville, PA | 06/13/18 | 06/12/18
93887 | Advanced Business Teleservices (ABT) (State/One-Stop) | Talent, OR | 06/14/18 | 06/13/18
93888 | Essity Operations Wausau, LLC (Company) | Middletown, OH | 06/14/18 | 06/13/18
93889 | MG Industries (Workers) | Lake City, PA | 06/14/18 | 06/13/18
93890 | MICO, Inc. (Workers) | North Mankato, MN | 06/14/18 | 06/13/18
93891 | Thermo Fisher Scientific (Workers) | Asheville, NC | 06/14/18 | 06/13/18
93892 | Cascade Steel (State/One-Stop) | City of Industry, CA | 06/15/18 | 06/14/18
93893 | Encompass Group LLC (State/One-Stop) | Richmond, VA | 06/15/18 | 06/14/18
93894 | Pensmore Reinforcement Technologies, LLC (State/One-Stop) | Ann Arbor, MI | 06/15/18 | 06/14/18
93895 | Keystone Steel & Wire Company (State/One-Stop) | Peoria, IL | 06/15/18 | 06/15/18
93896 | Mayline Safco (Union) | Sheboygan, WI | 06/15/18 | 06/14/18
93897 | Xerox (Workers) | Rosemont, IL | 06/15/18 | 06/14/18
93898 | Cardinal Health (State/One-Stop) | Waukegan, IL | 06/18/18 | 06/15/18
93899 | ADC Billing Office (Workers) | Scottsdale, AZ | 06/19/18 | 06/18/18
93900 | Honeywell Santa Ana Site (State/One-Stop) | Santa Ana, CA | 06/19/18 | 06/18/18
93901 | IHG (Workers) | North Charleston, SC | 06/19/18 | 06/18/18
93902 | Sutherland Healthcare Solutions Inc. (State/One-Stop) | Syracuse, NY | 06/19/18 | 06/18/18
93903 | Thermo Fisher Scientific (State/One-Stop) | Rochester, NY | 06/19/18 | 06/18/18
93904 | Digi International Inc. (State/One-Stop) | Eden Prairie, MN | 06/20/18 | 06/19/18
93905 | Ditech Financial LLC (State/One-Stop) | St Paul, MN | 06/20/18 | 06/19/18
93906 | Sterling Steel Company, LLC (State/One-Stop) | Sterling, IL | 06/20/18 | 06/20/18
93907 | Transamerican Auto Parts (State/One-Stop) | Compton, CA | 06/20/18 | 06/19/18
93908 | Travel Impressions, Ltd./Apple Vacations, LLC (State/One-Stop) | Farmingdale, NY | 06/20/18 | 06/19/18
93909 | Atlantic Coffee Industrial Solutions, LLC (Workers) | Houston, TX | 06/21/18 | 06/20/18
93910 | IHG (State/One-Stop) | Salt Lake City, UT | 06/21/18 | 06/20/18
93911 | Columbia Forest Products, Inc. (State/One-Stop) | Trumann, AR | 06/22/18 | 06/21/18
93912 | Mackie International Inc. (State/One-Stop) | Riverside, CA | 06/22/18 | 06/21/18
93913 | Regal Beloit America, Inc. (Company) | Blytheville, AR | 06/22/18 | 06/21/18
93914 | TE Connectivity (Company) | Budd Lake, NJ | 06/22/18 | 06/21/18
93915 | Telefonica USA, Inc. (Workers) | Miami, FL | 06/22/18 | 06/20/18
93916 | Continental ContiTech North America (State/One-Stop) | Hannibal, MO | 06/25/18 | 06/22/18
93917 | General Electric Transportation Services (State/One-Stop) | Erie, PA | 06/25/18 | 06/22/18
93918 | Lexis Nexis (a Subsidiary of RELX Corporation) (Company) | Albany, NY | 06/25/18 | 06/22/18
93919 | TE Connectivity (Company) | Worcester, MA | 06/25/18 | 06/22/18
93920 | TRG Customer Solutions, Inc., d/b/a Ibex (Company) | Indiana, PA | 06/25/18 | 06/22/18
93921 | Putnam Investments (Workers) | Boston, MA | 06/26/18 | 06/18/18
93922 | Abbott Associates, Inc. (Company) | Milford, CT | 06/26/18 | 06/22/18
93923 | Cascade Steel Rolling Mills (Union) | McMinnville, OR | 06/26/18 | 06/19/18
93924 | Bombardier Transportation (Holdings) USA, Inc. (Company) | Pittsburgh, PA | 06/27/18 | 06/26/18
93925 | Dimension Data North America, Inc. (State/One-Stop) | Reston, VA | 06/27/18 | 06/26/18
93926 | IBM (State/One-Stop) | Phoenix, AZ | 06/27/18 | 06/26/18
93927 | Transitions Optical, Inc. (State/One-Stop) | Pinellas Park, FL | 06/27/18 | 06/26/18
93928 | Westinghouse Plasma Corporation (Company) | Mt. Pleasant, PA | 06/27/18 | 06/27/18
93929 | Sem-Com Company (State/One-Stop) | Cypress, TX | 06/27/18 | 06/27/18
93930 | Ariens Company (State/One-Stop) | Auburn, NE | 06/28/18 | 06/27/18
93931 | Baxter Healthcare Corporation (State/One-Stop) | Round Lake, IL | 06/28/18 | 06/27/18
93932 | Computershare Investment Services (Company) | Canton, MA | 06/28/18 | 06/27/18
93933 | Datwyler Pharma Packaging USA, Inc. (Workers) | Pennsauken, NJ | 06/28/18 | 06/27/18
93934 | Fibrant, LLC (Company) | Augusta, GA | 06/28/18 | 06/28/18
93935 | GlobalFoundries U.S. Inc. (State/One-Stop) | Essex Junction/Burlington, VT | 06/28/18 | 06/27/18
93936 | Novartis Consumer Health, Inc.—GSK Consumer Healthcare (State/One-Stop) | Lincoln, NE | 06/28/18 | 06/27/18
93937 | Johnson Controls/TYCO (Company) | Indianapolis, IN | 06/29/18 | 06/28/18
93938 | Madison Polymeric Engineering, Inc. (Union) | Branford, CT | 06/29/18 | 06/28/18
93939 | Owens-Brockway Glass Container, Inc. (Union) | Atlanta, GA | 06/29/18 | 06/28/18
93940 | Rexam Beverage Can Americas (Union) | Birmingham, AL | 06/29/18 | 06/28/18
93941 | Seagate Technology (Workers) | Oklahoma City, OK | 06/29/18 | 06/26/18
93942 | Micro Motion Inc. (State/One-Stop) | Eden Prairie, MN | 07/02/18 | 06/29/18
93943 | US Cocoa Mat (State/One-Stop) | St. George, SC | 07/02/18 | 06/29/18
93944 | Wells Fargo & Company (State/One-Stop) | Frederick, MD | 07/02/18 | 06/29/18
93945 | Apple Vacations, LLC (Workers) | Newtown Square, PA | 07/03/18 | 06/15/18
93946 | Toys R Us (State/One-Stop) | Wayne, NJ | 07/03/18 | 07/02/18
93947 | Transportation, Inc. (State/One-Stop) | Arlington, VA | 07/03/18 | 07/02/18
93948 | Clearwater Paper (State/One-Stop) | Lewiston, ID | 07/05/18 | 07/03/18
93949 | The Collected Group Company, LLC (State/One-Stop) | Vernon, CA | 07/05/18 | 07/03/18
93950 | Cordstrap USA (Workers) | Sturtevant, WI | 07/05/18 | 07/03/18
93951 | El Paso Specialty Physicians Group (Workers) | El Paso, TX | 07/05/18 | 07/03/18
93952 | Honeywell International Inc. (State/One-Stop) | Lynnwood, WA | 07/05/18 | 07/03/18
93953 | Siteline Cabinetry (the Corsi Group) (State/One-Stop) | Keysville, VA | 07/05/18 | 07/05/18
93954 | Two Rivers Conferencing, LLC (State/One-Stop) | Elk Grove Village, IL | 07/05/18 | 07/03/18
93955 | AG Industries, Inc. (State/One-Stop) | St. Louis, MO | 07/06/18 | 07/05/18
93956 | Caterpillar Inc. (Company) | Joliet, IL | 07/06/18 | 07/05/18
93957 | Mallinckrodt Pharmaceuticals (Union) | St. Louis, MO | 07/06/18 | 07/05/18
93958 | Lam Research Corporation (State/One-Stop) | Tualatin, OR | 07/06/18 | 07/05/18
93959 | IBM (State/One-Stop) | Tucson, AZ | 07/09/18 | 07/06/18
93960 | NTT Data Services (State/One-Stop) | Plano, TX | 07/09/18 | 07/06/18
93961 | Nucor Steel Birmingham, Inc. (State/One-Stop) | Birmingham, AL | 07/09/18 | 07/06/18
93962 | Plymouth Tube Company (State/One-Stop) | Warrenville, IL | 07/09/18 | 07/06/18
93963 | Amdocs, Inc. (State/One-Stop) | Chesterfield, MO | 07/10/18 | 07/09/18
93964 | REG Seneca Renewable Energy Group, Inc. (State/One-Stop) | Seneca, IL | 07/10/18 | 05/29/18
93965 | Aryzta La Brea Bakery, Inc. (State/One-Stop) | Vernon, CA | 07/11/18 | 07/10/18
93966 | Bonney Staffing Center (State/One-Stop) | Topsham, ME | 07/11/18 | 07/10/18
93967 | Key Bank National Association (State/One-Stop) | Cleveland, OH | 07/11/18 | 07/11/18
93968 | Millipore Sigma (State/One-Stop) | St. Louis, MO | 07/11/18 | 07/10/18
93969 | Penske Logistics/Corestaff (Workers) | El Paso, TX | 07/11/18 | 07/10/18
93970 | Thermo Fisher Scientific (State/One-Stop) | Austin, TX | 07/11/18 | 07/10/18
93971 | Toys R Us Corporate Office & Headquarters (State/One-Stop) | Wayne, NJ | 07/11/18 | 07/10/18
93972 | Toys R Us (State/One-Stop) | Wayne, NJ | 07/11/18 | 07/02/18
93973 | Bic Consumer Products (State/One-Stop) | Milford, CT | 07/12/18 | 07/11/18
93974 | Concord Direct (Workers) | Concord, NH | 07/12/18 | 07/11/18
93975 | DST Systems, Inc. (State/One-Stop) | Baltimore, MD | 07/12/18 | 07/11/18
93976 | Hudson's Bay Company (Workers) | Wilkes Barre, PA | 07/12/18 | 07/11/18
93977 | Peds Legwear (USA) Inc. (Company) | Hildebran, NC | 07/12/18 | 07/11/18
93978 | Ardagh Group (State/One-Stop) | Simsboro, LA | 07/13/18 | 07/12/18
93979 | Commonwealth Brands (Workers) | Reidsville, NC | 07/13/18 | 07/12/18
93980 | Deluxe Digital Media (Workers) | Burbank, CA | 07/13/18 | 07/09/18
93981 | Nike, Inc. (State/One-Stop) | Beaverton, OR | 07/13/18 | 07/12/18
93982 | MetrixLab (formerly acturus) (Workers) | Wexford, PA | 07/13/18 | 07/12/18
93983 | Wells Fargo Home Mortgage Northeast Retail (State/One-Stop) | Pittsford, NY | 07/13/18 | 07/12/18

[FR Doc. 2018-18192 Filed 8-22-18; 8:45 am]

BILLING CODE 4510-FN-P